DEPARTMENT OF HOMELAND SECURITY

Coast Guard

33 CFR Part 165

[Docket No. USCG-2021-0726]

Safety Zones; Annual Events Requiring Safety Zones in the Captain of the Port Lake Michigan Zone—Corn Festival Fireworks, Morris, IL

AGENCY: Coast Guard, DHS.

ACTION: Notice of enforcement of regulation.

SUMMARY: The Coast Guard will enforce a safety zone for the Corn Festival Fireworks event on a portion of the Illinois River in Morris, IL. This action is intended to protect personnel, vessels, and the marine environment from potential hazards created by the fireworks display. During the enforcement period listed below, entry into, transiting, or anchoring within the safety zone is prohibited unless authorized by the Captain of the Port Lake Michigan or a designated representative.

DATES: The regulation in Title 33 Code of Federal Regulations (CFR) 165.929 Table 1, Event (19) will be enforced from 8:15 p.m. through 9 p.m. on September 25, 2021.

FOR FURTHER INFORMATION CONTACT: If you have questions about this notice of enforcement, call or email LT James Fortin, Waterways Management Division, Marine Safety Unit Chicago, U.S. Coast Guard; telephone: (630) 986-2155, email: D09-DG-MSUChicago-Waterways@uscg.mil.

SUPPLEMENTARY INFORMATION: The Coast Guard will enforce the Safety Zone; Corn Festival Fireworks listed as Event (19) in Table 1 of 33 CFR 165.929. Section 165.929 lists many annual events requiring safety zones in the Captain of the Port Lake Michigan zone. This safety zone consists of all waters of the Illinois River within a 560-foot radius from approximate launch position at 41°21.173′ N, 088°25.101′ W. This safety zone will be enforced from 8:15 p.m. through 9 p.m. on September 25, 2021.

All vessels must obtain permission from the Captain of the Port Lake Michigan, or his or her designated on-scene representative to enter, move within, or exit this safety zone during the enforcement times listed in this notice of enforcement. Requests must be made in advance and approved by the Captain of the Port before transits will be authorized. Approvals will be granted on a case-by-case basis. Vessels and persons granted permission to enter the safety zone shall obey all lawful orders or directions of the Captain of the Port Lake Michigan or a designated on-scene representative.

This notice of enforcement is issued under the authority of 33 CFR 165.929, Safety Zone; annual events requiring safety zones in the Captain of the Port Lake Michigan Zone and 5 U.S.C. 552(a). In addition to this notification of enforcement in the Federal Register, the Coast Guard will provide the maritime community with notification of this enforcement period via Broadcast Notice to Mariners. The Captain of the Port Lake Michigan or a designated on-scene representative may be contacted via VHF Channel 16 or (414) 747-7182.

Dated: September 15, 2021.
Donald P. Montoro,
Captain, U.S. Coast Guard, Captain of the Port, Lake Michigan.

[FR Doc. 2021-20360 Filed 9-20-21; 8:45 am]

BILLING CODE 9110-04-P